DEPARTMENT OF COMMERCE

International Trade Administration

[A-570-848]

Freshwater Crawfish Tail Meat From the People's Republic of China: Amended Final Results of Administrative Review and New Shipper Reviews

AGENCY: Import Administration, International Trade Administration, Department of Commerce.

ACTION: Notice of amended final results of the antidumping duty administrative review and new shipper reviews of freshwater crawfish tail meat from the People's Republic of China.

EFFECTIVE DATE: June 6, 2001.

FOR FURTHER INFORMATION CONTACT: Thomas Gilgunn, Abdelali Elouaradia or Maureen Flannery, AD/CVD Enforcement Group III, Office 7, Import Administration, International Trade Administration, U.S. Department of Commerce, 14th Street and Constitution Avenue, NW., Washington, DC 20230; telephone: (202) 482-0648, (202) 482-1374 or (202) 482-3020, respectively.

Applicable Statute

Unless otherwise indicated, all citations to the statute are references to the provisions effective January 1, 1995, the effective date of the amendments made to the Tariff Act of 1930 (the Act) by the Uruguay Round Agreements Act. In addition, unless otherwise indicated, all citations to the Department's regulations are to the provisions codified at 19 CFR part 351 (2000).

Scope of the Review

The product covered by this review is freshwater crawfish tail meat, in all its forms (whether washed or with fat on, whether purged or unpurged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTS) under item numbers 1605.40.10.10, 1605.40.10.90, 0306.19.00.10 and 0306.29.00.00. The HTS subheadings are provided for convenience and Customs purposes only. The written description of the scope of this order is dispositive.

Amendment of Final Results

On April 24, 2001, the Department of Commerce (the Department) published the final results of its administrative and new shipper reviews on freshwater crawfish tail meat (crawfish tail meat) from the People's Republic of China (PRC) (66 FR 20634). This review covered numerous exporters, including Huaiyin Foreign Trade Corporation (30) (Huaiyin30), Yancheng Foreign Trade Corporation (Yancheng FTC), Yancheng Haiteng Aquatic Products & Foods Company, Ltd. (Yancheng Haiteng), Ningbo Nanlian Frozen Foods Corporation, Ltd./Huaiyin Foreign Trade Corporation (5) (Ningbo Nanlian/Huaiyin(5)), Suqian Foreign Trade Company, Ltd. (Suqian FTC), Yangzhou Lakebest Foods Company, Ltd. (Yangzhou Lakebest), Shantou SEZ Yangfeng Marine Products Company (Shantou SEZ), Qingdao Zhengri Seafood Co., Ltd. (Qingdao Zhengri), and Fujian Pelagic Fishery Group Company (Fujian Pelagic). The period of review (POR) is September 1, 1998 through August 31, 1999.

On April 23, 2001, we received a submission from Huaiyin30 alleging a clerical error in the final results of the administrative review. The allegation was filed in a timely fashion.

Comment 1: Huaiyin30 alleges that the Department committed a ministerial error in the final results of the administrative review, by using an incorrect sales price for one of Huaiyin30's U.S. sales. For further details, see the business proprietary version of the memorandum from Matthew Renkey to the file, “Amendment of the Final Results of the 1998-99 Administrative Review of Freshwater Crawfish Tail Meat from the People's Republic of China: Huaiyin Foreign Trade Corporation (30),” dated May 24, 2001(“Amendment Memorandum”).

Department's Position: After a review of Huaiyin30's allegation, we agree with Huaiyin30 and have corrected our calculation worksheet to show the correct U.S. sales price for the sale in question. Please see “Amendment Memorandum,” a public version of which is available in the Central Records Unit, Room B-099 of the Department of Commerce building, 14th Street and Constitution Ave, NW., Washington, DC.

Amended Final Results of Administrative Review

As a result of our review and the correction of the ministerial error described above, we have determined that the following margins exist:

Manufacturer/exporter | Margin (percent)
*Ningbo Nanlian/Huaiyin5 | 2.75
*Yancheng Haiteng | 0.00
Huaiyin30 | 138.69
*Yancheng FTC | 35.73
*Fujian Pelagic | 38.76
*Yangzhou Lakebest | 0.00
*Suqian FTC | 0.00
*Qingdao Zhengri | 0.00
*Shantou SEZ | 0.00
*PRC-Wide Rate | 201.63
*Not affected by these Amended Final Results.

The Department shall determine, and the U.S. Customs Service (Customs) shall assess, antidumping duties on all appropriate entries. In accordance with 19 CFR 351.212(b), we will instruct Customs to assess an importer-specific percentage margin for the subject merchandise on each of that importer's entries during the review period.

Cash Deposit Requirements

The following deposit requirements will be effective upon publication of this notice of amended final results of administrative review and new shipper reviews for all shipments of freshwater crawfish tail meat from the PRC entered, or withdrawn from warehouse, for consumption on or after the date of publication, as provided by section 751(a)(1) of the Act: (1) The cash deposit rates for the reviewed companies will be the rates shown above except that, for firms whose weighted-average margins are less than 0.5 percent and therefore de minimis, the Department shall require no deposit of estimated antidumping duties; (2) for previously-reviewed PRC and non-PRC exporters with separate rates, the cash deposit rate will be the company-specific rate established for the most recent period; (3) for all other PRC exporters, the cash deposit rate will be the PRC-wide rate, 201.63 percent; and (4) for all other non-PRC exporters of the subject merchandise, the cash deposit rate will be the rate applicable to the PRC supplier of that exporter. These deposit requirements shall remain in effect until publication of the final results of the next administrative review.

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and in the subsequent assessment of doubled antidumping duties.

This notice also serves as the only reminder to parties subject to administrative protective orders (APOs) of their responsibility concerning the return or destruction of proprietary information disclosed under APO in accordance with section 351.305 of the Department's regulations or conversion to judicial protective order is hereby requested. Failure to comply with the regulations and terms of an APO is a sanctionable violation.

This administrative review and notice is in accordance with sections 751(a)(1) and 771(i)(1) of the Act.

Dated: May 24, 2001.
Faryar Shirzad,
Assistant Secretary for Import Administration.

[FR Doc. 01-14279 Filed 6-5-01; 8:45 am]

BILLING CODE 3510-DS-P